NUCLEAR REGULATORY COMMISSION

Advisory Committee on Nuclear Waste and Materials; Revised

The 186th Advisory Committee on Nuclear Waste and Materials (ACNW&M) meeting scheduled to be held February 12-14, 2008, Room T-2B3, Two White Flint North, 11545 Rockville Pike, Rockville, Maryland has been revised as noted below. Notice of this meeting was previously published in the Federal Register on Tuesday, January 29, 2008 (73 FR 5235-5236).

The discussion of the item listed as the Semiannual Briefing by the Office of Nuclear Materials Safety and Safeguards, scheduled between 10:05 a.m. and 11:30 a.m. on Tuesday, February 12, 2008, has been cancelled.

The discussion of ACNW&M Letter Reports previously scheduled between 11:30 a.m. and 12 p.m. on Tuesday, February 12, 2008, will be scheduled between 10:05 a.m. and 12 p.m. that same day.

The discussion of the item listed as Draft Guidance on Preventing Legacy Sites, scheduled between 1 p.m. and 2:30 p.m. on Tuesday, February 12, 2008, has been cancelled.

A new discussion listed as International Commission on Radiological Protection (ICRP) Recommendations—Final Report 103 has been added for Tuesday, February 12, 2008, between 1 p.m. and 1:30 p.m.

The discussion of the item listed as Corrosion of Waste Package and Spent Fuel Dissolution in a Repository Environment previously scheduled between 2:45 p.m. and 4 p.m. on February 12, 2008, will be scheduled from 1:45 p.m. to 3 p.m. that same day.

The discussion of ACNW&M Letters and Reports previously scheduled between 4 p.m. and 5:30 p.m. on February 12, 2008, will be scheduled between 3 p.m. and 5:30 p.m. that same day.

For further information, contact Mr. Antonio L. Dias, (Telephone 301-415-6805), between 6:45 a.m. and 4:30 p.m., EST.

Dated: February 4, 2008.
Andrew L. Bates,
Advisory Committee Management Office.

[FR Doc. E8-2385 Filed 2-7-08; 8:45 am]

BILLING CODE 7590-01-P